DEPARTMENT OF HOUSING AND URBAN DEVELOPMENT

[Docket No. FR-5378-N-01]

Notice of Proposed Information Collection: Comment Request Fair Housing Initiatives Program Grant Application and Monitoring Reports

AGENCY: Office of the Assistant Secretary for Fair Housing and Equal Opportunity (FHEO), Department of Housing and Urban Development (HUD).

ACTION: Notice.

SUMMARY: The proposed information collection requirement described below will be submitted to the Office of Management and Budget (OMB) for review, as required by the Paperwork Reduction Act of 1995. The Department is soliciting public comments on the subject proposal.

DATES: Comment Due Date: April 5, 2010.

ADDRESSES: Interested persons are invited to submit comments regarding this proposed information collection requirement. Comments should refer to the proposal by name and/or OMB Control Number, and should be sent to: Myron Newry, Director, FHIP Division, Office of Programs, Department of Housing and Urban Development, 451 Seventh Street, SW., Room 5224, Washington, DC 20410-2000.

FOR FURTHER INFORMATION CONTACT: Leroy McKinney, Jr., Paperwork Reduction Act Program Manager, Office of Chief Information Officer, Department of Housing and Urban Development, 451 Seventh Street, SW., Room 4178, Washington, DC 20410-2000; telephone: 202-402-5564 (this is not a toll free number). (Hearing or speech-impaired individuals may access this number via TTY by calling the toll-free Federal Information Relay Service at: 1-800-877-8339.)

SUPPLEMENTARY INFORMATION: The Department is submitting this proposed information collection requirement to the OMB for review, as required under the Paperwork Reduction Act of 1995 [44 U.S.C. Chapter 35, as amended]. Required forms were approved under Departmental clearance under the FHIP NOFA process.

This notice solicits comments from members of the public and affected agencies concerning the proposed information collection in order to: (1) Evaluate whether the proposed information collection is necessary for the proper performance of the Department's program functions; (2) Evaluate the accuracy of the Department's assessment of the paperwork burden that may result from the proposed information collection; (3) Enhance the quality, utility and clarity of the information which must be collected; and (4) Minimize the burden of the information collection on responders, including the use of appropriate automated collection techniques or other forms of information technology (e.g., electronic transmission of data).

Title of Regulation: 24 CFR Part 125, Fair Housing Initiatives Program.

OMB Control Number, if applicable: 2529-0033.

Description of the need for the information and proposed use: This is a revision of the currently approved information collection for selecting applicants for the Fair Housing Initiatives Program (FHIP) grants that will be part of the Notice of Funding Availability (NOFA). These grants are to fund fair housing enforcement and/or education and outreach activities under the following initiatives: Administrative Enforcement; Private Enforcement, Education and Outreach, and Fair Housing Organizations. Information is also collected to monitor grants and grant funds. Proposed revisions to the currently approved information collection include: changes in the program description from “Fair Housing Initiatives Program Grant Application” to “Fair Housing Initiatives Program Grant Application and Monitoring Reports.” Monitoring reports will continue to be submitted electronically and manually. Electronic reports include the attached forms: “Types of Closures”, “Bases and Issues in Tests”, and “Basis and Issues of Reports of Discrimination.”

Agency form number(s), if applicable: HUD 904 A, B, and C, SF-425, SF-424, SF-LLL, HUD-2880, HUD-2990, HUD-2993, HUD-424CB, HUD-424-CBW, HUD2994-A, HUD-96010, and HUD-27061.

Members of affected public: The collection of information involves Qualified Fair Housing Organizations (QFHOs); Fair Housing Organizations (FHOs); public or private non-profit organizations or institutions and other public or private entities that are working to prevent or eliminate discriminatory housing practices; State and local governments; and Fair Housing Assistance Program Agencies.

Estimation of the total numbers of hours needed to prepare the information collection including the number of respondents, frequency of response, and hours of response: An estimation of 46,420 total hours will be needed to prepare the information collection. The number of respondents is 400 with a frequency response of 1 per annum, and the total hours per respondent is 76.50 hours for application development. The estimated 104 agencies that will receive funding and have to provide quarterly and final reports, with approximately 59 having to provide Enforcement Logs and 1 agency reporting on a semi-annual basis. The estimated number of respondents is based on the average of the number of submissions for NOFA years 2008 to current. The number of hours is an average based on grantee estimates of time to review instructions, search existing data sources, prepare required responses to the application, complete the certification, and assemble exhibits.

Status of the proposed information collection: Revision of a currently approved collection.

Authority: The Paperwork Reduction Act of 1995, 44 U.S.C. Chapter 35, as amended.

Dated: January 28, 2010.
Cheryl Ziegler,
Deputy Assistant Secretary for Enforcement and Programs.

[FR Doc. 2010-2364 Filed 2-3-10; 8:45 am]

BILLING CODE 4210-67-P